DEPARTMENT OF AGRICULTURE

Agricultural Marketing Service

[Doc. No. AMS-LPS-13-0020]

National Sheep Industry Improvement Center: Notice of Request for Extension and Revision of a Currently Approved Information Collection

AGENCY: Agricultural Marketing Service, USDA.

ACTION: Notice and request for comments.

SUMMARY: In accordance with the Paperwork Reduction Act of 1995 (44 U.S.C. Chapter 35), this notice announces the Agricultural Marketing Service's (AMS) intention to request approval, from the Office of Management and Budget, for an extension of and revision to the currently approved information collection 0581-0263: National Sheep Industry Improvement Center (NSIIC).

DATES: Comments on this notice must be received by June 24, 2013 to be assured of consideration.

Additional Information or Comments: Comments should be posted online at www.regulations.gov. Comments received will be posted without change, including any personal information provided. All comments should reference the docket number, AMS-LS-13-0020; the date of submission; and the page number of this issue of the Federal Register. Comments may also be sent to Kenneth R. Payne, Director; Research and Promotion Division; Livestock, Poultry, and Seed Program; Agricultural Marketing Service; U.S. Department of Agriculture, 1400 Independence Ave. SW., Room 2608-S, STOP 0251, Washington, DC 20250; Telephone 202/720-1115; Fax: 202/720-1125. Comments will be made available for public inspection at the above address during regular business hours or via the Internet at www.regulations.gov.

SUPPLEMENTARY INFORMATION: Title: National Sheep Industry Improvement Center.

OMB Number: 0581-0263.

Expiration Date of Approval: October 31, 2013.

Type of Request: Extension and revision of a currently approved information collection.

Abstract: The information collection requirements in this request are essential to carry out the intent of the NSIIC. The NSIIC was initially authorized under the Consolidated Farm and Rural Development Act (Act). The Act, as amended, was passed as part of the 1996 Farm Bill (Pub. L. 104-127, 110 Stat. 888). The initial legislation included a provision that privatized the NSIIC 10 years after its ratification or once the full appropriation of $50 million was disbursed. Subsequently, the NSIIC was privatized on September 30, 2006, and the NSIIC's office was closed in early 2007.

In 2008, the NSIIC was re-established under Title XI of the Food, Conservation, and Energy Act of 2008 (Pub. L. 110-246), also known as the 2008 Farm Bill. The 2008 Farm Bill repealed the requirement in section 375(e)(6) of the Act to privatize the NSIIC. Additionally, the 2008 Farm Bill provided for $1,000,000 in mandatory funding for fiscal year 2008 from the Commodity Credit Corporation for the NSIIC to remain available until expended; as well as authorization for appropriations in the amount of $10 million for each of fiscal years 2008 through 2012.

The primary objective of the NSIIC is to assist U.S. sheep and goat industries by strengthening and enhancing the production and marketing of sheep, goats, and their products in the United States. The information collection requirements in the request are essential to carry out the intent of the enabling legislation.

AMS accepts nominations for membership on the NSIIC Board of Directors (Board) from national organizations that (1) consist primarily of active sheep or goat producers in the United States and (2) have the primary interest of sheep or goat production in the United States.

The forms used in this collection are: Nominations for Appointments; AD-755 Background Information Form (OMB No. 0505-0001); and Nominee's Agreement to Serve.

Estimate of Burden: Public reporting burden for this collection of information is estimated to average 0.21 hour per response.

Respondents: National organizations submitting nominations to the Board who (1) consist primarily of active sheep or goat producers in the United States and (2) have the primary interest of sheep or goat production in the United States.

Estimated number of Respondents: 10.

Estimated Total Annual Responses: 30.

Estimated number of Responses per Respondent: 1 per year.

Estimated Total Annual Burden: 6.25 hours.

Comments are invited on: (1) Whether the proposed collection of information is necessary for the proper performance of the functions of the agency, including whether the information will have practical utility; (2) the accuracy of the agency's estimate of the burden of the proposed collection of information including the validity of the methodology and assumptions used; (3) ways to enhance the quality, utility, and clarity of the information to be collected; and (4) ways to minimize the burden of the collection of information on those who are to respond, including the use of appropriate automated, electronic, mechanical, or other technological collection techniques or other forms of information technology. Comments may be sent to Kenneth R. Payne, Director; Research and Promotion Division. All comments received will be available for public inspection during regular business hours at the same address.

All responses to this notice will be summarized and included in the request for OMB approval. All comments will become a matter of public record.

Dated: April 19, 2013.
Rex A. Barnes,
Acting Administrator, Agricultural Marketing Service.

[FR Doc. 2013-09740 Filed 4-24-13; 8:45 am]

BILLING CODE 3410-02-P